DEPARTMENT OF TRANSPORTATION

Federal Motor Carrier Safety Administration

[Docket No. FMCSA-2022-0085]

Agency Information Collection Activities; Renewal of an Approved Information Collection: Acknowledgement of Use of COVID-19 Emergency Declaration Relief

AGENCY: Federal Motor Carrier Safety Administration (FMCSA), Department of Transportation (DOT).

ACTION: Notice and request for comments.

SUMMARY: In accordance with the Paperwork Reduction Act (PRA) of 1995, FMCSA announces its plan to submit the Information Collection Request (ICR) described below to the Office of Management and Budget (OMB) for its review and approval and invites public comment. This notice invites comment on the information collection titled “Acknowledgement of Use of COVID-19 Emergency Declaration Relief,” which is currently approved on an emergency basis and allows FMCSA to collect information from motor carriers engaged in providing direct assistance in response to certain emergency declarations issued by the Agency to provide regulatory relief for such carriers in continued support of the Nation's coronavirus disease 2019 (COVID-19) recovery efforts. OMB approved this collection on an emergency basis and subsequently extended that emergency approval. The extension of the emergency approval expires on August 31, 2022.

DATES: Comments on this notice must be received on or before July 5, 2022.

ADDRESSES: You may submit comments identified by Federal Docket Management System (FDMS) Docket Number FMCSA-2022-0085 using any of the following methods:

• Federal eRulemaking Portal: http://www.regulations.gov. Follow the online instructions for submitting comments.

• Fax: 1-202-493-2251.

• Mail: Dockets Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. E.T., Monday through Friday, except Federal holidays.

Instructions: All submissions must include the Agency name and docket number. For detailed instructions on submitting comments, see the Public Participation heading below. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “FAQ” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: William Bannister, Office of Analysis, Research and Technology, DOT, FMCSA, West Building 6th Floor, 1200 New Jersey Avenue SE, Washington, DC 20590-0001; 202-385-2388; William.Bannister@dot.gov.

SUPPLEMENTARY INFORMATION:

Background: FMCSA issued Emergency Declaration No. 2020-002 in response to the March 13, 2020, declaration of a national emergency under 42 U.S.C. 519(b) related to the danger COVID-19 presents to public health and welfare. FMCSA modified Emergency Declaration 2020-002 to expand and remove categories of supplies, equipment, and persons covered by the Emergency Declaration to respond to changing needs for emergency relief. The modified Emergency Declaration was subsequently extended on June 15, 2020, August 15, 2020, December 1, 2020, August 31, 2021, and November 29, 2021, in accordance with 49 CFR 390.25, because the Presidentially declared emergency remained in place and because a continued exemption was needed to support direct emergency assistance for some supply chains.

In accordance with the expanded, modified Emergency Declaration No. 2020-002, motor carriers and drivers providing direct assistance in support of relief efforts related to the COVID-19 public health emergency are granted emergency relief from certain portions of 49 CFR parts 390 through 399 of the Federal Motor Carrier Safety Regulations, except as restricted in the Emergency Declaration. Direct assistance means transportation and other relief services provided by a motor carrier or its driver(s) incident to the immediate restoration of essential services (such as medical care) or essential supplies related to COVID-19 during the emergency. The notice extending the declaration provides a list of relief services and essential supplies.

Prior to September 1, 2021, neither the Emergency Declaration nor the regulations covering Emergency Declarations (found in §§ 390.23 and 390.25) required that motor carriers or drivers operating under the Emergency Declaration report their operation to FMCSA. FMCSA determined that the unprecedented period when the expanded, modified Emergency Declaration No. 2020-002 was in place required that FMCSA seek information on the number of motor carriers and drivers relying upon the emergency declaration in order to evaluate the need for additional extensions.

The extension issued on August 31, 2021, included a requirement for motor carriers to report, on a monthly basis, their reliance on the emergency declaration during operations. FMCSA established a website where motor carriers and drivers filled out fields for their USDOT number, the number of commercial motor vehicle trips that relied upon the emergency declaration in the preceding month (using a drop down menu), the commodities being transported (using a drop down menu), and a follow up for those listing more than one commodity to indicate which was transported the most (using a drop down menu). The November 29, 2021, extension continued the reporting requirement. OMB approved the reporting requirement on an emergency basis on August 30, 2021, and subsequently extended that emergency approval on February 14, 2022. That approval expires on August 31, 2022. FMCSA refined the burden estimates to reflect the average number of monthly submissions received from September 2021 to February 2022. The carrier is reporting for the previous month, therefore October 2021 submitted reports consist of data for the month of September, and March 2022 submitted reports consist of data for the month of February.

This resulted in a decrease in the number of reports estimated to be submitted each month, as the emergency ICR request used the total number of motor vehicles as a stand-in, and acknowledged that number was likely to be an overestimate.

Title: Acknowledgement of use of COVID-19 Emergency Declaration Relief.

OMB Control Number: 2126-0074.

Type of Request: Renewal of an approved emergency collection.

Respondents: Motor carriers and drivers that operate under the terms of the extended COVID-19 Emergency Declaration No. 2020-002.

Estimated Number of Respondents: 477 per month.

Estimated Time per Response: 15 minutes per response.

Expiration Date: The emergency approval expires on August 31, 2022.

Frequency of Response: Monthly.

Estimated Total Annual Burden: 1,431 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2022-09641 Filed 5-4-22; 8:45 am]

BILLING CODE 4910-EX-P